DEPARTMENT OF ENERGY

Federal Energy Regulatory Commission

[Docket No. AD03-7-002]

Natural Gas Price Formation; Notice of Staff Workshop on Market Activity and Price Indicators

October 15, 2003.

The Commission said in its Policy Statement on Natural Gas and Electric Price Indices, Docket No. PL03-3-000, Paragraph 41 that price indices used in natural gas pipeline tariffs must “reflect adequate liquidity” at the point referenced in the tariff. Furthermore, in Northern Natural Gas Company, Docket No. RP03-533-000 and in Natural Gas Pipeline Company of America, Docket No. RP99-176-089, the Commission directed its Staff to assess whether the price indices proposed to be used in those pipelines' tariffs reflect a level of liquidity that would ensure reliability.

In order to respond to the Commission, and to develop a basis for evaluating adequacy of liquidity in future pipeline tariff filings, staff will seek information as to what factors must be considered to evaluate available data sources of market activity at reference points. To get a better understanding of standard measurements of market activity and the reliability of price indicators, staff is holding a workshop from 10 a.m. to 5 p.m. on Tuesday, November 4, 2003, at the Federal Energy Regulatory Commission, 888 First Street, NE., in Washington, DC.

The previously held conferences and workshop in this docket addressed price indices and the reporting process, i.e., the mechanisms for reporting and creating price indices. In this workshop, we intend to focus on characteristics of the underlying markets that support price discovery. How should the Commission decide if a particular market (or index point) represents sufficient activity to provide a reliable price? How can and should minimum levels of market activity required to support a reliable index be measured? What alternatives can be used in the event the underlying data is deemed inadequate?

The workshop will be in roundtable format and we request that the discussion be candid, factual and practical. We strongly encourage anyone with direct knowledge of evaluating liquidity and measuring market activity to participate actively in the workshop. This would include those who trade, manage risk, purchase and sell gas and electricity, report prices, and any others who use energy market information. A supplemental notice will be issued to provide key discussion questions on the issues to be addressed at the workshop.

The workshop is open to the public, and we would like to hear from as many as possible on these important price formation issues. It would be helpful, however, if people with a strong interest in speaking call in or e-mail their desire to participate, including name, company represented and involvement in energy market activities and price indicators, as well as the topic to be addressed. For those unable to attend in person, teleconferencing will be available during the workshop. Details and dial-in instructions will be included in the supplemental notice.

The conference will be transcribed. Those interested in acquiring the transcript should contact Ace Reporters at 202-347-3700 or 800-336-6646. Transcripts will be placed in the public record ten days after the Commission receives them. Additionally, Capitol Connection offers the opportunity for remote listening and viewing of the conference. It is available for a fee, live over the Internet, by phone or via satellite. Persons interested in receiving the broadcast, or who need information on making arrangements should contact David Reininger or Julia Morelli at Capitol Connection (703-993-3100) as soon as possible or visit the Capitol Connection Web site at http://www.capitolconnection.org and click on “FERC.”

For additional information please contact Jolanka Fisher, 202-502-8863 or by e-mail at Jolanka.Fisher@ferc.gov.

Linda Mitry,
Acting Secretary.

[FR Doc. E3-00089 Filed 10-21-03; 8:45 am]

BILLING CODE 6717-01-P